DEPARTMENT OF THE INTERIOR

National Park Service

Notice of Inventory Completion for Native American Human Remains and Associated Funerary Objects in the Possession of the Rochester Museum and Science Center, Rochester, NY

AGENCY: National Park Service, Interior.

ACTION: Notice.

Notice is hereby given in accordance with provisions of the Native American Graves Protection and Repatriation Act (NAGPRA), 43 CFR 10.9, of the completion of an inventory of human remains and associated funerary objects in the possession of the Rochester Museum and Science Center, Rochester, NY.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains and associated funerary objects was made by Rochester Museum and Science Center professional staff in consultation with representatives of the Cayuga Nation of New York, the Oneida Nation of New York, the Oneida Tribe of Wisconsin, the Onondaga Nation of New York, the Seneca Nation of New York, the Seneca-Cayuga Tribe of Oklahoma, the St. Regis Band of Mohawk Indians of New York, the Stockbridge-Munsee Community of Mohican Indians of Wisconsin, the Tonawanda Band of Seneca Indians of New York, and the Tuscarora Nation of New York.

In 1929, partial human remains representing 19 individuals were recovered from the Great Gully site (Young Farm, Aub 003) in Ledyard, Cayuga County, NY, by Harrison Follett during an expedition conducted by the Rochester Municipal Museum (now the Rochester Museum and Science Center). No known individuals were identified. No associated funerary objects are present.

Based on skeletal morphology, these individuals have been identified as Native American. Based on site location and the condition of the human remains, the Great Gully site has been identified as a Cayuga occupation, and possibly the site of the Jesuit mission of St. Joseph to the Cayugas, dating to circa A.D. 1650-1687.

In 1935, human remains representing 13 individuals were recovered from the Elmer Rogers site (Wpt 001) in Savannah, Wayne County, NY, by Dr. William A. Ritchie during a field expedition conducted by the Rochester Museum of Arts and Sciences (now Rochester Museum and Science Center). No known individuals were identified. The 61 associated funerary objects are 1 ceramic pipe bowl, 1 sword blade, 1 iron fishhook, 1 antler powder measure, 1 iron knife, 1 sharpening stone, 4 animal ribs, 1 iron dirk, 1 saw, 2 iron scrapers, 5 iron spear points, 4 curved iron knives, 3 iron knife blades, 1 hickory nut, 4 wooden ladle fragments, 2 brass kettles, 1 bone-handled iron knife, 1 iron drill, 2 brass and wood fragments, 19 worked pieces of shell, 1 iron axe, 1 bear canine, and 3 spherical glass beads.

Based on skeletal morphology, these individuals have been identified as Native American. Based on site location, the condition of the human remains, and continuities of material culture, the Elmer Rogers site has been identified as a Cayuga occupation, and possibly the site of the Jesuit mission of St. Rene to the Cayugas, dating to circa A.D. 1668-1684.

Based on the above-mentioned information, officials of the Rochester Museum and Science Center have determined that, pursuant to 43 CFR 10.2(d)(1), the human remains listed above represent the physical remains of 32 individuals of Native American ancestry. Officials of the Rochester Museum and Science Center also have determined that, pursuant to 43 CFR 10.2(d)(2), the 61 objects listed above are reasonably believed to have been placed with or near individual human remains at the time of death or later as part of the death rite or ceremony. Lastly, officials of the Rochester Museum and Science Center have determined that, pursuant to 43 CFR 10.2(e), there is a relationship of shared group identity that can be reasonably traced between these Native American human remains and associated funerary objects and the Cayuga Nation of New York and the Seneca-Cayuga Tribe of Oklahoma.

This notice has been sent to officials of the Cayuga Nation of New York, the Oneida Nation of New York, the Oneida Tribe of Wisconsin, the Onondaga Nation of New York, the Seneca Nation of New York, the Seneca-Cayuga Tribe of Oklahoma, the St. Regis Band of Mohawk Indians of New York, the Stockbridge-Munsee Community of Mohican Indians of Wisconsin, the Tonawanda Band of Seneca Indians of New York, and the Tuscarora Nation of New York. Representatives of any other Indian tribe that believes itself to be culturally affiliated with these human remains and associated funerary objects should contact Connie Bodner, NAGPRA Liaison, Rochester Museum and Science Center, 657 East Avenue, Rochester, NY 14607-2177, telephone (716) 271-4552, extension 345, before December 21, 2000. Repatriation of the human remains and associated funerary objects to the Cayuga Nation of New York and the Seneca-Cayuga Tribe of Oklahoma may begin after that date if no additional claimants come forward.

Dated: November 14, 2000.
John Robbins,
Assistant Director, Cultural Resources Stewardship and Partnerships.

[FR Doc. 00-29808 Filed 11-20-00; 8:45 am]

BILLING CODE 4310-70-F